DEPARTMENT OF TRANSPORTATION

Federal Aviation Administration

14 CFR Part 39

[Docket No. FAA-2013-0326; Directorate Identifier 2012-NM-089-AD]

RIN 2120-AA64

Airworthiness Directives; The Boeing Company Airplanes

AGENCY: Federal Aviation Administration (FAA), DOT.

ACTION: Notice of proposed rulemaking (NPRM).

SUMMARY: We propose to supersede an existing airworthiness directive (AD) that applies to certain The Boeing Company Model 757 series airplanes equipped with Rolls-Royce RB211 engines. The existing AD currently requires modification of the nacelle strut and wing structure; for certain airplanes, repetitive detailed inspections of certain aft bulkhead fasteners for loose or missing fasteners, and corrective action if necessary. For certain other airplanes, the existing AD requires a one-time detailed inspection of the middle gusset of the inboard side load fitting for proper alignment, and realignment if necessary; a one-time eddy current inspection of certain fastener holes for cracking, and repair if necessary; a detailed inspection of certain fasteners for loose or missing fasteners; and replacement with new fasteners if necessary. Since we issued that AD, a compliance time error was discovered, which could allow an airplane to exceed the acceptable compliance time for addressing the unsafe condition. This proposed AD would specify a maximum compliance time limit. We are proposing this AD to prevent fatigue cracking in primary strut structure and consequent reduced structural integrity of the strut.

DATES: We must receive comments on this proposed AD by May 30, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this AD, contact Boeing Commercial Airplanes, Attention: Data & Services Management, P.O. Box 3707, MC 2H-65, Seattle, WA 98124-2207; phone: 206-544-5000, extension 1; fax: 206-766-5680; Internet: https://www.myboeingfleet.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Nancy Marsh, Aerospace Engineer, Airframe Branch, ANM-120S, Seattle Aircraft Certification Office (ACO), FAA, 1601 Lind Avenue SW., Renton, WA 98057-3356; phone: 425-917-6440; fax: 425-917-6590; email: Nancy.Marsh@faa.gov.

SUPPLEMENTARY INFORMATION:

Comments Invited

We invite you to send any written relevant data, views, or arguments about this proposed AD. Send your comments to an address listed under the ADDRESSES section. Include “Docket No. FAA-2013-0326; Directorate Identifier 2012-NM-089-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On May 25, 2004, we issued AD 2004-12-07, Amendment 39-13666 (69 FR 33561, June 16, 2004), for certain Model 757 series airplanes equipped with Rolls-Royce RB211 engines. (AD 2004-12-07 superseded AD 99-24-07, Amendment 39-11431 (64 FR 66370, November 26, 1999)). AD 2004-12-07 requires modification of the nacelle strut and wing structure; and for certain airplanes, repetitive detailed inspections of certain aft bulkhead fasteners for loose or missing fasteners, and corrective action if necessary. For certain other airplanes, the existing AD requires a one-time detailed inspection of the middle gusset of the inboard side load fitting for proper alignment and realignment if necessary; a one-time eddy current inspection of certain fastener holes for cracking, and repair if necessary; a detailed inspection of certain fasteners for loose or missing fasteners; and replacement with new fasteners if necessary. That AD resulted from reports indicating that the actual operational loads applied to the nacelle are higher than the analytical loads that were used during the initial design. Such an increase in loading can lead to fatigue cracking in primary strut structure prior to an airplane reaching its design service objective. We issued that AD to prevent fatigue cracking in primary strut structure and consequent reduced structural integrity of the strut.

Actions Since Existing AD Was Issued

Since we issued AD 2004-12-07, Amendment 39-13666 (69 FR 33561, June 16, 2004), a compliance time error was discovered in certain service information related to the AD. The error involves an optional threshold formula that could allow an airplane to exceed the acceptable compliance time for addressing the unsafe condition.

We reviewed Boeing Service Bulletin 757-54-0035, Revision 6, dated December 2, 2011. For information on the procedures and compliance times, see this service information at http://www.regulations.gov by searching for Docket No. FAA-2013-0326.

Concurrent Service Information

Boeing Service Bulletin 757-54-0035, Revision 6, dated December 2, 2011, specifies concurrent or prior accomplishment of Boeing Service Bulletin 757-54-0003, Revision 1, dated August 30, 1985; and Boeing Service Bulletin 757-54-0028, Revision 1, dated August 25, 1994. For information on the procedures, see this service information at http://www.regulations.gov by searching for Docket No. FAA-2013-0326.

FAA's Determination

We are proposing this AD because we evaluated all the relevant information and determined the unsafe condition described previously is likely to exist or develop in other products of the same type design.

Proposed AD Requirements

This proposed AD would require accomplishing the actions specified in the service information described previously, except as discussed under “Differences Between the Proposed AD and the Service Information.”

The phrase “related investigative actions” might be used in this proposed AD. “Related investigative actions” are follow-on actions that: (1) Are related to the primary actions, and (2) are actions that further investigate the nature of any condition found. Related investigative actions in an AD could include, for example, inspections.

In addition, the phrase “corrective actions” might be used in this proposed AD. “Corrective actions” are actions that correct or address any condition found. Corrective actions in an AD could include, for example, repairs.

Change to Existing AD

This proposed AD would retain certain requirements of AD 2004-12-07, Amendment 39-13666 (69 FR 33561, June 16, 2004). Since AD 2004-12-07 was issued, the AD format has been revised, and certain paragraphs have been rearranged. As a result, the corresponding paragraph identifiers have changed in this proposed AD, as listed in the following table:

Revised Paragraph Identifiers
Requirement in AD 2004-12-07, Amendment 39-13666 (69 FR 33561, June 16, 2004) | Corresponding requirement in this proposed AD
paragraph (a) | paragraph (g)
paragraph (c) | paragraph (h)

Differences Between the Proposed AD and the Service Information

Boeing Service Bulletin 757-54-0035, Revision 6, dated December 2, 2011; and Boeing Service Bulletin 757-54-0028, Revision 1, dated August 25, 1994; specify to contact the manufacturer for instructions on how to repair certain conditions, but this proposed AD would require repairing those conditions in one of the following ways:

• In accordance with a method that we approve; or

• Using data that meet the certification basis of the airplane, and that have been approved by the Boeing Commercial Airplanes Organization Designation Authorization (ODA) whom we have authorized to make those findings.

Costs of Compliance

We estimate that this proposed AD affects 176 airplanes of U.S. registry.

We estimate the following costs to comply with this proposed AD:

Estimated Costs
Action | Labor cost | Parts cost | Cost per product | Cost on U.S. operators
Modification [retained actions from AD 2004-12-07, Amendment 39-13666 (69 FR 33561, June 16, 2004)] | Up to 1,188 work-hours × $85 per hour = $100,980 | $0 | Up to $100,980 | Up to $17,772,480
One-time Inspection [retained action from AD 2004-12-07, Amendment 39-13666 (69 FR 33561, June 16, 2004)] | 1 work-hour × $85 per hour = $85 | 0 | $85 | $14,960
Concurrent modification [new proposed action, 30 airplanes] | 142 work-hours × $85 per hour = $12,070 | 0 | $12,070 | $362,100
Concurrent inspection and fastener installation [new proposed action, 12 airplanes] | 104 work-hours × $85 per hour = $8,840 | 0 | $8,840 | $106,080

We have received no definitive data that would enable us to provide cost estimates for the on-condition actions specified in this proposed AD.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2004-12-07, Amendment 39-13666 (69 FR 33561, June 16, 2004), and adding the following new AD:

The Boeing Company: Docket No. FAA-2013-0326; Directorate Identifier 2012-NM-089-AD.

(a) Comments Due Date

The FAA must receive comments on this AD action by May 30, 2013.

(b) Affected ADs

This AD supersedes AD 2004-12-07, Amendment 39-13666 (69 FR 33561, June 16, 2004).

(c) Applicability

This AD applies to The Boeing Company Model 757-200, -200PF, and -200CB series airplanes, certificated in any category, line numbers 1 through 735 inclusive, equipped with Rolls-Royce RB211 engines.

(d) Subject

Joint Aircraft System Component (JASC)/Air Transport Association (ATA) of America Code 54, Nacelles/Pylons.

(e) Unsafe Condition

This AD was prompted by reports indicating that the actual operational loads applied to the nacelle are higher than the analytical loads that were used during the initial design. We are issuing this AD to prevent fatigue cracking in primary strut structure and consequent reduced structural integrity of the strut.

(f) Compliance

Comply with this AD within the compliance times specified, unless already done.

(g) Retained Modification

This paragraph restates the requirements of paragraph (a) of AD 2004-12-07, Amendment 39-13666 (69 FR 33561, June 16, 2004) with new service information. Modify the nacelle strut and wing structure according to Boeing Service Bulletin 757-54-0035, dated July 17, 1997; Revision 1, dated April 15, 1999; Revision 2, dated June 13, 2002; or Revision 6, dated December 2, 2011; at the later of the times specified in paragraph (g)(1) or (g)(2) of this AD, except as required by paragraph (i) of this AD. All of the terminating actions described in the service bulletins and listed in paragraph I.C., Table I, ”Strut Improvement Bulletins,” on page 6 of Boeing Service Bulletin 757-54-0035, dated July 17, 1997; on page 7 of Boeing Service Bulletin 757-54-0035, Revision 1, dated April 15, 1999; and on Page 7 of Boeing Service Bulletin 757-54-0035, Revision 2, dated June 13, 2002; as applicable; must be accomplished according to those service bulletins prior to, or concurrently with, the accomplishment of the modification of the nacelle strut and wing structure required by this paragraph. After July 21, 2004 (the effective date of AD 2004-12-07), use only Boeing Service Bulletin 757-54-0035, Revision 2, dated June 13, 2002; or Boeing Service Bulletin 757-54-0035, Revision 6, dated December 2, 2011. After the effective date of this AD, use only Boeing Service Bulletin 757-54-0035, Revision 6, dated December 2, 2011. Accomplishment of the actions required by paragraph (i) of this AD terminates the requirements of this paragraph.

(1) Prior to the accumulation of 37,500 total flight cycles, or prior to 20 years since the date of manufacture of the airplane, whichever occurs first.

(2) Within 3,000 flight cycles after January 3, 2000 (the effective date of AD 99-24-07, Amendment 39-11431 (64 FR 66370, November 26, 1999)).

(h) Retained Inspection and Repair

This paragraph restates the requirements of paragraph (c) of AD 2004-12-07, Amendment 39-13666 (69 FR 33561, June 16, 2004), with new service information. For airplanes on which the modification required by paragraph (g) of this AD has been done according to Boeing Service Bulletin 757-54-0035, dated July 17, 1997: Within 15,000 flight cycles after doing the modification required by paragraph (g) of this AD, or within 3 years after July 21, 2004 (the effective date of AD 2004-12-07), whichever is later; do a one-time detailed inspection of the middle gusset of the inboard side load fitting for proper alignment, according to Part II of the Accomplishment Instructions of Boeing Service Bulletin 757-54-0035, Revision 1, dated April 15, 1999; or Revision 2, dated June 13, 2002, excluding Evaluation Form; or Boeing Service Bulletin 757-54-0035, Revision 6, dated December 2, 2011. If the gusset is not aligned properly: Before further flight, machine the gusset to the specified angle according to the Accomplishment Instructions of Boeing Service Bulletin 757-54-0035, Revision 1, dated April 15, 1999; or Revision 2, dated June 13, 2002, excluding Evaluation Form; or Boeing Service Bulletin 757-54-0035, Revision 6, dated December 2, 2011. As of the effective date of this AD, use only Boeing Service Bulletin 757-54-0035, Revision 6, dated December 2, 2011, for accomplishing the actions required by this paragraph.

(i) New Compliance Time Limitation

For airplanes on which the modification of the nacelle strut and wing structure required by paragraph (g) of this AD has not been done as of the effective date of this AD: Do the modification required by paragraph (g) of this AD at the later of the times specified in paragraphs (i)(1) and (i)(2) of this AD.

(1) At the time specified in paragraph 1.E., “Compliance,” of Boeing Service Bulletin 757-54-0035, Revision 6, dated December 2, 2011, except that where this service bulletin specifies a compliance time “from the date on Revision 4 of this service bulletin,” this AD requires compliance within the specified compliance time after the effective date of this AD.

(2) Within 3,000 flight cycles after January 3, 2000 (the effective date of AD 99-24-07, Amendment 39-11431 (64 FR 66370, November 26, 1999)).

(j) New Concurrent Actions

Concurrently with or prior to the accomplishment of the actions required by paragraph (i) of this AD, do the actions specified in paragraphs (j)(1) and (j)(2) of this AD.

(1) For airplanes identified in Boeing Service Bulletin 757-54-0003, dated Revision 1, dated August 30, 1985: Modify the nacelle strut upper spar, in accordance with the Accomplishment Instructions of Boeing Service Bulletin 757-54-0003, Revision 1, dated August 30, 1985.

(2) For airplanes identified in Boeing Service Bulletin 757-54-0028, Revision 1, dated August 25, 1994: Do a detailed inspection and non-destructive test inspection for cracking of the lower chord, mid-chord, and holes (for cracking, galling, corrosion, or damage due to fastener removal), in accordance with the Accomplishment Instructions of Boeing Service Bulletin 757-54-0028, Revision 1, dated August 25, 1994.

(k) Repair

(1) If any cracking is found during any inspection required by paragraph (j)(2) of this AD: Before further flight, repair the cracking using a method approved in accordance with the procedures specified in paragraph (m) of this AD.

(2) If any holes with galling, corrosion, or damage due to fastener removal are found during any inspection required by paragraph (j)(2) of this AD: Before further flight, repair the holes, in accordance with the Accomplishment Instructions of Boeing Service Bulletin 757-54-0028, Revision 1, dated August 25, 1994.

(l) Credit for Previous Actions

(1) This paragraph provides credit for the actions required by paragraph (g) of this AD, if those actions were performed before the effective date of this AD using Boeing Service Bulletin 757-54-0035, Revision 4, dated June 18, 2009; or Revision 5, dated June 9, 2011; which are not incorporated by reference in this AD.

(2) This paragraph provides credit for the actions required by paragraph (h) of this AD, if those actions were performed before the effective date of this AD using Boeing Service Bulletin 757-54-0035, Revision 4, dated June 18, 2009; or Revision 5, dated June 9, 2011; which are not incorporated by reference in this AD.

(3) This paragraph provides credit for the actions required by paragraph (j) of this AD, if those actions were performed before the effective date of this AD using Boeing Service Bulletin 757-54-0003, dated December 14, 1984; or Boeing Service Bulletin 757-54-0028, dated March 31, 1994; which are not incorporated by reference in this AD.

(m) Alternative Methods of Compliance (AMOCs)

(1) The Manager, Seattle Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane and the approval must specifically refer to this AD.

(4) AMOCs approved for AD 2004-12-07, Amendment 39-13666 (69 FR 33561, June 16, 2004), are approved as AMOCs for paragraphs (g) and (h) of this AD, except for AMOCs that approved a revised compliance time.

(n) Related Information

(1) For more information about this AD, contact Nancy Marsh, Aerospace Engineer, Airframe Branch, ANM-120S, Seattle Aircraft Certification Office (ACO), FAA, 1601 Lind Avenue SW., Renton, WA 98057-3356; phone: 425-917-6440; fax: 425-917-6590; email: Nancy.Marsh@faa.gov.

(2) For service information identified in this AD, contact Boeing Commercial Airplanes, Attention: Data & Services Management, P.O. Box 3707, MC 2H-65, Seattle, WA 98124-2207; phone: 206-544-5000, extension 1; fax: 206-766-5680; Internet: https://www.myboeingfleet.com. You may review copies of the referenced service information at the FAA, Transport Airplane Directorate, 1601 Lind Avenue SW., Renton, WA. For information on the availability of this material at the FAA, call 425-227-1221.

Issued in Renton, Washington, on April 4, 2013.
Ali Bahrami,
Manager, Transport Airplane Directorate, Aircraft Certification Service.

[FR Doc. 2013-08768 Filed 4-12-13; 8:45 am]

BILLING CODE 4910-13-P